DEPARTMENT OF TRANSPORTATION

Federal Railroad Administration

Petition for Waiver of Compliance

In accordance with Title 49 Code of Federal Regulations (CFR) Part 211, notice is hereby given that the Federal Railroad Administration (FRA) has received a request for a waiver of compliance from certain requirements of its safety standards. The individual petition is described below, including the party seeking relief, the regulatory provisions involved, the nature of the relief being requested, and the petitioner's arguments in favor of relief.

CSX Transportation, Inc.

[Waiver Petition Docket Number FRA-2010-0172]

Pursuant to 49 CFR 213.113(a), CSX Transportation, Inc. (CSX) petitions for a waiver from the accepted practice of start/stop rail testing for Phase III of our nonstop continuous rail test pilot project beginning April 1, 2011, for a period of up to 1 year on the main tracks between Richmond, VA, and Jacksonville, FL. The subdivisions that would be traversed are the North End, South End, Charleston, Savannah, Nahunta, and Jacksonville Terminal.

Based on the results of the previous phases of nonstop continuous rail test, CSX will not perform parallel/redundant start/stop rail testing on track segments being nonstop continuous rail tested under this waiver. Instead, CSX will produce biweekly, nonstop, continuous rail test reports for review by the FRA Rail Integrity managers.

The nonstop continuous high-speed rail test vehicle will be a self-propelled/railbound ultrasound/induction flaw detection vehicle operating at speeds up to 30 mph. This vehicle will make runs every 2 weeks over the assigned territory. Upon completion of each run, data will be analyzed offline by a group of experts with experience in this process. The analysis will categorize and prioritize suspected defective locations for post-test verification. Two or three teams of verifiers will then be sent out with field instruments to check these suspect locations based upon GPS coordinates. All suspect locations will be checked 60 feet on either side of the suspect GPS location. Remedial actions will be applied as per 49 CFR 213.113 for confirmed rail defects.

Nonstop continuous rail testing will provide the capability to test the track more quickly and frequently, and to minimize the risk of rail service failures.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2010-0172) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Page 19477-78), or at http://www.dot.gov/privacy.html.

Issued in Washington, DC, on December 23, 2010.
Robert C. Lauby,
Deputy Associate Administrator for Regulatory and Legislative Operations.

[FR Doc. 2010-32815 Filed 12-28-10; 8:45 am]

BILLING CODE 4910-06-P